DEPARTMENT OF THE INTERIOR

National Park Service

Notice of Availability of the Draft General Management Plan/Environmental Impact Statement, Cumberland Gap National Historical Park, Kentucky, Tennessee, Virginia

AGENCY: National Park Service, Interior.

ACTION: Notice of Availability of the Draft General Management Plan/Environmental Impact Statement, Cumberland Gap National Historical Park, Kentucky, Tennessee, Virginia.

SUMMARY: Pursuant to 42 U.S.C. 4332(2)(C) of the National Environmental Policy Act of 1969 the National Park Service (NPS) announces the availability of a Draft General Management Plan and Environmental Impact Statement (GMP/EIS) for the Cumberland Gap National Historical Park, Kentucky, Tennessee, Virginia.

DATES: The GMP/EIS will remain available for public review for 60 days following the publishing of the Notice of Availability in the Federal Register by the U.S. Environmental Protection Agency. Public meetings will be held during the 60-day review period on the GMP/EIS, and specific dates and locations will be announced in local and regional media sources of record and on the NPS planning Web site at http://parkplanning.nps.gov/cuga.

ADDRESSES: Written comments should be addressed to Mark Woods, Superintendent Cumberland Gap National Historical Park, U.S. 25E South, P.O. Box 1848, Middlesboro, Kentucky 40965-1848. Comments may also be submitted through the NPS Planning Environment and Public Comment (PEPC) Web site: http://parkplanning.nps.gov/cuga. Copies of the Draft GMP/EIS are available by contacting the Park Superintendent. An electronic copy of the Draft GMP/EIS is available on the Internet at http://parkplanning.nps.gov/cuga. Before including your address, phone number, e-mail address, or other personal identifying information in your comment, you should be aware that your entire comment, including your personal identifying information, may be made publicly available at any time. While you can ask us in your comment to withhold your personal identifying information from public review, we cannot guarantee that we will be able to do so. We will make all submissions from organizations or businesses and from individuals identifying themselves as representatives or officials of organizations or businesses, available for public inspection in their entirety. Copies of the Draft GMP/EIS will also be available for review at the following locations:

Cumberland Gap National Historical Park, Visitor Center, ¼ Mile U.S. 25E South, P.O. Box 1848, Middlesboro, Kentucky 40965.

Lee County Public Library, 406 Joslyn Avenue, Pennington Gap, Virginia 24277.

Bristol Virginia Public Library, 701 Goode Street, Bristol, Virginia 24201-4199.

Knoxville City Library, Halls Branch, 4518 E Emory Road, Knoxville, Tennessee 37938.

Claiborne County Public Library, P.O. Box 139, Tazewell, Tennessee 37825.

Harlan Public Library, 107 N. 3rd Street, Harlan, Kentucky 40831-2335.

Pineville Public Library, 214 Walnut Street, P.O. Box 1490, Pineville, Kentucky 40977-1490.

Lincoln Memorial University Lincoln Museum, 6965 Cumberland Gap Parkway, Harrogate, Tennessee 37752.

Middlesboro Public Library, 126 S. 20th Street, P.O. Box 1677, Middlesboro, Kentucky 40965-3677.

FOR FURTHER INFORMATION CONTACT: Superintendent Mark Woods, Cumberland Gap National Historical Park, U.S. 25E South, P.O. Box 1848, Middlesboro, Kentucky 40965-1848, telephone: 606-248-2817.

SUPPLEMENTARY INFORMATION: Cumberland Gap National Historical Park was authorized by Congress on June 11, 1940, to commemorate the story of the first doorway to the west. Carved by wind and water, Cumberland Gap forms a major break in the formidable Appalachian Mountain chain. First used by large game animals in their migratory journeys and then followed by American Indians, the Cumberland Gap was the first and foremost avenue for the settlement of the interior of this nation. Subsequent legislation authorized the acquisition of the Fern Lake watershed, an approximately 4,650-acre area located just southwest of and adjacent to the park. The 150 acre lake can be viewed from Pinnacle Overlook, a premier scenic attraction in the park. The purpose of the Draft GMP/EIS is to set forth the basic management philosophy for the park and to provide strategies for addressing issues and achieving identified management objectives. The Draft GMP/EIS describes and analyzes the environmental impacts of the proposed action and one other action alternative for the future management direction of the park. A no action alternative is also evaluated. The preferred alternative (Alternative C) in the Draft GMP/EIS would provide a greater amount of visitor access and facilities in the park as compared to Alternative A. Alternative C would also feature increased levels of education, outreach, and partnering. Otherwise, Alternative C would be similar to Alternative B in that it provides slightly expanded visitor access to the park while minimizing the potential for adverse effects on resources.

Authority: The authority for publishing this notice is contained in 40 CFR 1506.6.

The responsible official for this Draft GMP/EIS is the Regional Director, Southeast Region, National Park Service, 100 Alabama Street, SW., 1924 Building, Atlanta, Georgia 30303.

Dated: August 12, 2009.
David Vela,
Regional Director, Southeast Region.

[FR Doc. E9-24999 Filed 10-15-09; 8:45 am]

BILLING CODE 4310-70-P